DEPARTMENT OF ENERGY

Federal Energy Regulatory Commission

[Project No. 943-103]

Public Utility District No. 1 of Chelan County; Notice of Application for Amendment of License and Soliciting Comments, Motions To Intervene, and Protests

February 7, 2008.

Take notice that the following hydroelectric application has been filed with the Commission and is available for public inspection:

a. Application Type: Non-project use of project lands and waters.

b. Project No.: 943-103.

c. Date Filed: October 5, 2007.

d. Applicant: Public Utility District No. 1 of Chelan County, Washington.

e. Name of Project: Rock Island Hydroelectric Project.

f. Location: The project is located on the Columbia River in Chelan County, Washington. The project does not occupy any Federal or tribal lands.

g. Filed Pursuant to: Federal Power Act 16 U.S.C. 791(a)-825(r).

h. Applicant Contact: Michelle Smith, License and Natural Resource Compliance Manager, Public Utility District No. 1 of Chelan County, P.O. Box 1231, Wenatchee, WA 98807-1231. Phone: (888) 663-8121, Ext. 4180.

i. FERC Contact: Any questions on this notice should be addressed to Brian Romanek at (202) 502-6175, or e-mail address: Brian.Romanek@ferc.gov.

j. Deadline for filing comments, motions to intervene, and protest: February 29, 2008.

k. Description of the Application: The Public Utility District No. 1 of Chelan County, Washington, licensee of the Rock Island Hydroelectric Project, has filed an application seeking authorization from the Federal Energy Regulatory Commission to remove 1.01 acres of land from Wenatchee Riverfront Park, and the hydroelectric project. The land would be conveyed to the City of Wenatchee (City). Also, the licensee proposes to add 0.87 acre of land to the park, and the project. This land exchange, which has been coordinated with the City, would accommodate a roadway corridor modification, consistent with the City's plans for improving riverfront access for the public. This modification would entail adding approximately 55 parking spaces and 170 linear feet of trails and walkways. In addition, the licensee proposes to remove from the project a 0.47 acre parcel of land that was discovered to be mistakenly included within the project boundary. The City is the fee-title owner of the parcel. It abuts the City's old water works building.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “PROTEST”, or “MOTION TO INTERVENE”, as applicable, and the Project Number of the particular application to which the filing refers. All documents (original and eight copies) should be filed with: Secretary, Federal Energy Regulatory Commission, 888 First Street, NE., Washington DC 20426. A copy of any motion to intervene must also be served upon each representative of the Applicant specified in the particular application.

p. Agency Comments: Federal, State, and local agencies are invited to file comments on the described application. A copy of the application may be obtained by agencies directly from the Applicant. If an agency does not file comments within the time specified for filing comments, it will be presumed to have no comments. One copy of an agency's comments must also be sent to the Applicant's representatives.

q. Comments, protests and interventions may be filed electronically via the Internet in lieu of paper. See, 18 CFR 385.2001(a)(1)(iii) and the instructions on the Commission's Web site at http://www.ferc.gov under the “e-Filing” link.

Kimberly D. Bose,
Secretary.

[FR Doc. E8-2729 Filed 2-13-08; 8:45 am]

BILLING CODE 6717-01-P